DEPARTMENT OF COMMERCE

National Oceanic and Atmospheric Administration

RIN 0648-XF095

North Pacific Fishery Management Council; Public Meeting

AGENCY: National Marine Fisheries Service (NMFS), National Oceanic and Atmospheric Administration (NOAA), Commerce.

ACTION: Notice of a public meeting.

SUMMARY: The North Pacific Fishery Management Council (Council) Groundfish Plan Team will hold a two day meeting.

DATES: The meeting will be begin at 9 a.m. on Wednesday January 11, 2017, and end at 5 p.m. on Thursday January 12, 2017, to view the agenda see SUPPLEMENTARY INFORMATION.

ADDRESSES: The meeting will be held at the Alaska Fishery Science Center Traynor Room 2076, 7600 Sand Point Way NE., Building 4, Seattle, WA 98115.

Council address: North Pacific Fishery Management Council, 605 W. 4th Ave., Suite 306, Anchorage, AK 99501-2252; telephone (907) 271-2809.

FOR FURTHER INFORMATION CONTACT: Diana Stram or Jim Armstrong, Council staff; telephone: (907) 271-2809.

SUPPLEMENTARY INFORMATION:

Agenda

Wednesday, January 11, 2017 Through Thursday January 12, 2017

The Joint Groundfish Plan Team will provide recommendations on NPFMC stock prioritization results specifically on the following: (a) Evaluate the results of the prioritization process applied to North Pacific groundfish, (b) develop a proposal for how to use those results to support planning, (c) discuss any recommended changes from status quo and whether those changes are supported/justified, and (d) discuss the implications and where assessments may occur at lower frequency, discuss potential interim actions to support management.

The Agenda is subject to change, and the latest version will be posted, at http://www.npfmc.org/fishery-management-plan-team/goa-bsai-groundfish-plan-team/.

Special Accommodations

These meetings are physically accessible to people with disabilities. Requests for sign language interpretation or other auxiliary aids should be directed to Shannon Gleason at (907) 271-2809 at least 7 business days prior to the meeting date.

Authority: 16 U.S.C. 1801 et seq.

Dated: December 19, 2016.
Tracey L. Thompson,
Acting Director, Office of Sustainable Fisheries, National Marine Fisheries Service.

[FR Doc. 2016-30819 Filed 12-22-16; 8:45 am]

BILLING CODE 3510-22-P